DEPARTMENT OF THE INTERIOR

Fish and Wildlife Service

[FWS-R1-ES-2018-N047; FXES11130100000-189-FF01E00000]

U.S. Endangered Species; Receipt of Recovery Permit Applications

AGENCY: Fish and Wildlife Service, Interior.

ACTION: Notice of receipt of permit applications; request for comments.

SUMMARY: We, the U.S. Fish and Wildlife Service (Service), invite the public to comment on applications for permits to conduct activities intended to enhance the propagation or survival of endangered species. With some exceptions, the Endangered Species Act of 1973, as amended (ESA), prohibits certain activities affecting endangered and threatened species unless that activity is covered under a Federal permit authorizing take of the species or authorizing otherwise prohibited activities. The ESA also requires that we invite public comment before issuing these permits.

DATES: We must receive your written comments by May 23, 2018.

ADDRESSES: Document availability: Documents and other information submitted with the applications are available for review, subject to the requirements of the Privacy Act (5 U.S.C. 552a) and the Freedom of Information Act (5 U.S.C. 552), by any party who submits a written request for a copy of such documents to the following office within 30 days of the date of publication of this notice (see DATES): Program Manager, Restoration and Endangered Species Classification, Ecological Services, U.S. Fish and Wildlife Service, Pacific Regional Office, 911 NE 11th Avenue, Portland, OR 97232-4181.

Submitting Comments: You may submit comments by one of the following methods. Please specify applicant name(s) and application number(s) to which your comments pertain (e.g., TE-XXXXXX).

• Email: permitsR1ES@fws.gov. Please refer to the respective permit number (e.g., Application No. TE-XXXXXX) in the subject line of your email message.

• U.S. Mail: Program Manager, Restoration and Endangered Species Classification, Ecological Services, U.S. Fish and Wildlife Service, Pacific Regional Office, 911 NE 11th Avenue, Portland, OR 97232-4181.

FOR FURTHER INFORMATION CONTACT: Colleen Henson, Recovery Permit Coordinator, Ecological Services, (503) 231-6131 (phone); permitsR1ES@fws.gov (email).

Background

The Endangered Species Act, as amended (ESA; 16 U.S.C. 1531 et seq.) prohibits certain activities affecting endangered and threatened species unless a Federal permit covers that activity. The ESA and our implementing regulations in part 17 of title 50 of the Code of Federal Regulations (CFR) provide for the issuance of such permits and require that we invite public comment before issuing permits for activities involving endangered species.

A permit issued by the Service under section 10(a)(1)(A) of the ESA authorizes the permittee to conduct activities with U.S. endangered or threatened species for scientific purposes that promote recovery, enhancement of propagation or survival, or interstate commerce (the latter only in the event that it facilitates scientific purposes or enhancment of propagation of survival). Our regulations implementing section 10(a)(1)(A) of the ESA for these permits are found at 50 CFR 17.22 for endangered wildlife species, 50 CFR 17.32 for threatened wildlife species, 50 CFR 17.62 for endangered plant species, and 50 CFR 17.72 for threatened plant species.

Permit Applications Available for Review and Comment

We invite local, State, and Federal agencies, Tribes, and the public to comment on the following applications:

Public Availability of Comments

Before including your address, phone number, email address, or other personal identifying information in your comment, you should be aware that your entire comment—including your personal identifying information—might be made publicly available at any time. If you submit a hardcopy comment that includes personal identifying information, you may request at the top of your document that we withhold this information from public review; however, we cannot guarantee that we will be able to do so.

Contents of Public Comments

Please make your comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations.

Next Steps

If the Service decides to issue permits to any of the applicants listed in this notice, we will publish a notice in the Federal Register.

Authority

Section 10(c) of the Endangered Species Act of 1973, as amended (16 U.S.C. 1531 et seq.).

Rolland G. White,
Assistant Regional Director, Ecological Services, Pacific Region, U.S. Fish and Wildlife Service.

Application No. | Applicant | Endangered species | Location | Activity | Type of take | Permit action
TE-799558 | Idaho Power Company, Boise, ID | Banbury Springs limpet (Lanx sp.), Snake River physa snail (Physa natricina) | ID, OR | Population surveys, DNA analysis, and ecological research | Survey, capture, collect, identify, transport, and release | Amend, renew.
TE-38768B | Micronesian Environmental Services, Saipan, MP | Mariana common moorhen (Gallinula chloropus guami), Micronesian megapode (Megapodius laperouse), Nightingale reed-warbler (Acrocephalus luscinia) | GU, MP | Conduct surveys | Harass | Renew.
TE-19045C | Hawaii Division of Forestry and Wildlife, Honolulu, HI | Add the following species: Anthricinan yellow-faced bee (Hylaeus anthracinus), Orangeblack Hawaiian damselfly (Megalagrion xanthomelas) | HI | Captive propagation, genetic analyses, and release | Capture, handle, captive propagate, release, and genetic analyses | Amend.
TE-69397C | Seattle Aquarium, Seattle, WA | Hawksbill sea turtle (Eretmochelys imbricata), Leatherback sea turtle (Dermochelys coriacea), Loggerhead sea turtle (Caretta caretta) | OR, WA | Rehabilitation and transfer of stranded sea turtles | Handle, measure, weigh, biosample, mark, transfer, and release | New.
TE-78405C | Guam Plant Extinction and Prevention Program, University of Guam, Mangilao, GU | Eugenia bryanii (no common name (NCN)), Hedyotis megalantha (Paudedo), Heritiera longipetiolata (NCN), Phyllanthus saffordii (NCN), Psychotria malaspinae (Aplokating-palaoan), Serianthes nelsonii (Hayun lagu (=(Guam), Tronkon guafi (Rota)), Solanum guamense (NCN), Tinospora homosepala (NCN) | GU | Population surveys, captive propagation, outplanting, and recovery actions | Remove/reduce to possession from lands under Federal jurisdiction | New.
TE-78730C | Robert Wescom, Santa Rita, GU | Heritiera longipetiolata (NCN) | GU | Population surveys, captive propagation, outplanting, and recovery actions | Remove/reduce to possession from lands under Federal jurisdiction | New.

[FR Doc. 2018-08347 Filed 4-20-18; 8:45 am]

BILLING CODE 4333-15-P